DEPARTMENT OF LABOR

Employment and Training Administration

Workforce Investment Act—Demonstration Grants; Solicitation for Grant Applications—Preparing Youth Offenders To Enter High Growth and High Demand Industries

Announcement Type: New. Solicitation for Grant Applications.

Funding Opportunity Number: SGA/DFA PY-04-09.

Catalog of Federal Domestic Assistance (CFDA) Number: 17.261.

Key Dates: The closing date for receipt of applications under this announcement is May 23, 2005. Applications must be received not later than 5 p.m. (Eastern Daylight Time). Application and submission information is explained in detail in Section IV of this SGA.

Summary: The Employment and Training Administration (ETA), U.S. Department of Labor (DOL), announces the availability of approximately $15 million in Responsible Reintegration of Youthful Offender grant funds to address the specific workforce challenges of youth offenders and to utilize strategies that prepare them for new and increasing job opportunities in high-growth/high-demand and economically vital industries and sectors of the American economy. Projects funded under this competition will be consistent with both the President's High Growth Job Training Initiative and DOL's Youth Vision.

Grant funds awarded under this competition can be used to implement a variety of approaches to helping youth offenders enter high-growth/high-demand industries, including occupational training provided by organizations that grant industry-recognized credentials; on-the-job training, apprenticeships, internships, and other work-based learning opportunities; job placement efforts; reading and math remediation to assist youth offenders succeed in education and training programs; efforts to help youth offenders already employed upgrade to skilled positions; and efforts to help youth offenders enter community colleges and four-year colleges.

Each application must reflect a strategic partnership between the public workforce system, business representatives from high-growth/high-demand industries, the education and training community, and the juvenile justice system. Partnerships with the child welfare agency and with faith-based and community organizations are also encouraged. It is anticipated that individual awards will average $1 million for the first year of operation to serve 200 youth per site.

Supplementary Information:

I. Funding Opportunity Description

1. Background and Purpose

The White House Task Force for Disadvantaged Youth identifies young people in the juvenile justice system as one of the neediest youth populations in the country. The Task Force notes that illiteracy and school failure are serious and widespread among youth in detention, correctional, or shelter facilities, with such youth typically scoring between grades 5 and 7 in reading and between grades 5 and 9 in math. An American Bar Association Report notes that an estimated 36 percent of juvenile offenders have learning disabilities and that an additional 13 percent have mental retardation. The report notes that the percentage of youth in juvenile correctional facilities who were previously identified and served in special education programs prior to their incarceration is at least three to five times the percentage of the public school population identified as disabled.

Court-involved youth are predominantly male and disproportionately minority youth. In 2000, minority youth made up about 32 percent of the U.S. population, but 58 percent of youth in juvenile facilities. African American youth under age 18 make up 15 percent of the youth population, but 26 percent of all juvenile arrests and 44 percent of the detained population.

Multiple risk factors and events converge in the lives of young people that put them at high-risk for coming into contact with the justice system. The Department of Justice (DOJ) collects data on youth offenders and adjudicated youth both through research studies and reports from the State corrections departments. One study by DOJ's Office of Juvenile Justice and Delinquency Prevention (OJJDP) that surveyed administrators at public and private detention centers and training schools found that 75 percent of the offenders come from families affected by problems such as divorce and separation, 52 percent showed signs of depression, and 51 percent appeared to have been abused by a parent or adult. Mental illness is also especially high among youth offenders. Studies estimate that 80 percent of youth in the juvenile justice system have a diagnosable mental health disorder and many also suffer from co-occurring substance abuse disorders.

These combined risk factors make it very difficult for youth offenders to compete in the labor market, especially for jobs that can lead to a career. This grant announcement combines two DOL priorities—the President's High Growth Job Training Initiative and the Youth Vision—in order to assist youth offenders to move into jobs and careers in high-growth/high-demand industries. We hope through this SGA to develop demonstration sites across the country showing that strategic partnerships can be formed between business, community colleges, the workforce investment system, and the juvenile justice system to help youth offenders enter such careers.

2. DOL's Youth Vision

The White House Taskforce on Disadvantaged Youth notes that despite the billions of Federal, State, local, and private dollars spent on needy youth and their families, many out-of-school, at-risk youth are currently being left behind in our economy because of a lack of program focus and emphasis on outcomes. Well-designed and coordinated programs offer youth who have become disconnected from mainstream institutions and systems additional opportunities to successfully transition to adult roles and responsibilities.

DOL's Youth Vision has been developed in response to the White House Task Force Report on Disadvantaged Youth. Developed in collaboration with our partners at the Departments of Education, Health and Human Services, and Justice, this new strategic vision aims to more effectively and efficiently serve out-of-school and at-risk youth through the workforce investment system by focusing on four major areas:

• Improving alternative education services to youth;

• Meeting the demands of business, especially in high-growth industries and occupations;

• Serving the neediest youth; and

• Improving program performance.

In order to accomplish these goals, collaboration across youth-serving agencies at the state and local levels is expected.

3. The President's High Growth Job Training Initiative

The President's High Growth Job Training Initiative is a strategic effort to prepare workers for new and increasing job opportunities in high-growth/high-demand and economically vital industries and sectors of the American economy. The initiative is designed to provide national leadership for a demand-driven workforce system by identifying high-growth/high-demand industries, evaluating their skills needs, and funding demonstration projects that provide workforce solutions to ensure individuals can gain the skills needed to get good jobs in these rapidly expanding or transforming industries.

The foundation of this initiative is partnerships between the publicly-funded workforce investment system, business and industry representatives, and education and training providers, such as community colleges. The purpose of these partnerships is to develop innovative solutions or replicate models that address a particular industry's workforce issues. These solutions demonstrate how a demand-driven workforce system can more efficiently serve the workforce needs of business, while effectively helping workers find good jobs with good wages and promising career paths.

The High Growth Job Training Initiative engages each partner in its area of strength. Industry representatives and employers define workforce challenges facing the industry and identify the competencies and skills required for the industry's workforce. Community colleges and other education and training providers assist in developing competency models and training curricula and train new and incumbent workers. The publicly-funded workforce investment system accesses human capital (youth, unemployed, underemployed, and dislocated workers), assists with training programs, and places trained workers in jobs.

4. Areas of ETA Emphasis for This SGA

ETA has developed five areas of emphasis for youth offender projects funded through this SGA: (1) Helping youth offenders enter high growth/high demand industries; (2) helping youth offenders improve reading and math skills to attain their high school diploma or GED and to enter post-secondary education and training; (3) building strategic partnerships; (4) leveraging resources; and (5) achieving high-performance outcomes.

• Helping Youth Offenders Enter Into High Growth/High Demand Industries. This SGA places great emphasis on ensuring that high growth/high demand industries, as illustrated by the President's High Growth Job Training Initiative, are targeted to allow youth offenders access to new, emerging, and better job opportunities, with promising career ladders. Guiding youth offenders into high-growth industries requires that applicants and their partners work to identify the workforce needs in high-growth/high-demand and economically critical industries based on their State and local economies and to fully understand the workforce challenges facing these industries and the necessary preparation required to succeed in those occupations. This information may be obtained through a variety of sources including current State and local labor market information as well as formal communication with business and industry representatives in order to obtain up-to-date, primary source information on issues that pertain to workforce development.

• Helping Youth Offenders Improve Reading and Math Skills To Attain Their High School Diploma or GED and To Enter Post-Secondary Education and Training. This SGA also places great emphasis on improving the basic education skills of youth offenders; helping them receive high school diplomas or GEDs; and assisting them to enter post-secondary education and training. We are particularly interested in youth receiving high school diplomas. We encourage grantees to boost the reading and math skills of youth and to help youth make up lost high school credits. We also encourage grantees to coordinate with local public schools to help youth offenders return to regular high schools if appropriate or to be referred to quality alternative schools that provide high school diplomas, certifiable credentials, and opportunities for post-secondary educational placement. We encourage coordination with local community colleges and four-year colleges to assist youth with the transition to post-secondary education. We encourage grantees to develop mentoring for youth and to use work-based learning opportunities. In all cases, this emphasis on reading and math remediation should lead to post-secondary education and training.

• Building Strategic Partnerships. ETA believes that strategic partnerships between the public workforce system, business and industry representatives, the juvenile justice system, and education and training providers such as community colleges, need to be in place in order to ensure that youth offenders gain the necessary skills and competencies for jobs and career pathways in high-growth/high-demand industries. We also believe that additional partnerships with the child welfare agency and faith-based and community organizations also could enhance this effort.

In order to maximize success, each partner needs to be engaged in its area of strength and have a clearly defined role in the partnership. For example, industry representatives define workforce challenges facing the industry, identify competencies and skills required, and may provide work-based opportunities for participants. Community colleges and other education and training providers assist in developing competency models and curricula for training new and incumbent workers. The juvenile justice system makes referrals to the program, while faith and community-based organizations provide mentoring and case management to provide encouragement, tutoring, and assistance to help participants achieve their goals. The workforce investment system may assist with the assessments of youth, develop individual service strategies and training programs, and place trained youth into jobs. This example does not preclude other partner roles and responsibilities in the design and implementation of a youth offender project.

• Leveraging Resources. Youth offender investments should leverage funds and resources from key entities in the strategic partnership. Leveraging resources in the context of strategic partnerships accomplishes three goals: (1) Allowing for the pursuit of resources driven by strategy; (2) increasing stakeholder investment in the project at all levels, including design and implementation phases; and (3) broadening the impact of the project itself.

Consistent with the new youth vision, this SGA provides the opportunity for strong collaboration between State and local youth-serving agencies. Businesses, faith-based and community organizations, and foundations often invest resources to support workforce development. In addition, other government programs may provide resources, including WIA funds reserved for Statewide activities, local WIA formula youth funds, State juvenile justice funds, Federal No Child Left Behind education funds, Chaffee, Runaway and Homeless funds and State education funds. ETA encourages applicants and their partners to be entrepreneurial as they seek out, utilize, and sustain these resources, whether in-kind or cash contributions, when creating effective, innovative projects for youth offenders.

Applicants will be rated in part on their ability to demonstrate commitments of leveraged non-Federal resources. These leveraged non-Federal resources can be either cash or in-kind. In addition, 5 bonus points will be provided for applicants that leverage 20 percent in cash of the total amount requested for the grant from State or Federal resources. Applicants must describe in detail how such leveraged funds will be used and demonstrate how these funds will contribute to the goals of the project.

• High Performance Outcomes. DOL expects that 200 youth offenders will be served during the first year of operation at each site awarded a grant under this SGA. The outcomes for this initiative will include placement in employment, post-secondary education, and advanced training, attainment of a degree or certificate (both of which are part of the new common measures for youth employment and training programs), and reduced recidivism.

5. Examples of Projects That Could Be Funded Under This Solicitation

Types of projects that could be funded under this SGA include, but are not limited to, the following examples. Please note that these are only examples, and we welcome applicants to propose alternative approaches. All proposals will be judged on their own merits.

Example 1: The local Workforce Investment Board, the education and training community, juvenile court, and representatives of local high-growth industries set up a comprehensive system for assisting all youth returning home from correctional facilities to enter careers in high-growth industries. The local high-growth employers identify the skills and competency needs of their high-growth industries as the focus of the effort. The juvenile court agrees to refer all youth returning to the local area from correctional facilities, as well as youth who have previously been released from correctional facilities or who have been sentenced to probation rather than confinement. The child welfare agency refers foster youth who have been involved in the juvenile justice system. The community college and industry representatives design and implement a set of apprenticeship, on-the-job training, and internship opportunities for youth offenders in the high-growth industries identified, as well as implement an educational component to improve the math and reading skills of youth offenders and to assist them in working towards acquiring an associate's and/or bachelor's degree from a community college or four-year college. The workforce investment system implements the assessments for the participants, provides the supportive services, and after training, is involved in job placements in those identified high-growth industries. Faith-based and community organizations agree to provide mentors, case management, and other support services to youth offenders. Any of the above agencies or organizations could be the lead agency for the project.

Example 2: The State agencies that oversee workforce development, community colleges, and juvenile justice coordinate with industry representatives to identify occupations in high-growth industries that could be taught at State juvenile correctional facilities and to implement instructional courses in these occupations in one or more juvenile correctional facilities in the State. The new instructional courses emphasize project-based learning. The State Workforce Agency then coordinates with local Workforce Investment Boards and local employers to develop apprenticeships, on-the-job training, internships, and job placements for youth offenders from these correctional facilities when they are released. Faith-based and community organizations agree to provide mentors and case management for the youth.

Example 3: A consortium of Workforce Investment Boards serving a common labor market coordinate with the community colleges that serve the broader area, the juvenile courts that serve the area, and industry representatives to set up a regional approach to assisting youth returning from correctional facilities to enter high-growth/high-demand industries. The consortium identifies two or three high-growth industries to be the focus of the effort. The juvenile courts agree to refer to this new effort all youth returning to the local area from correctional facilities. The child welfare agencies refer foster youth who have been involved in the juvenile justice system. The Workforce Investment Boards and the industry representatives design a set of apprenticeship, on-the-job training, and internship opportunities, and conduct job placement for youth offenders in the identified high-growth industries. The community colleges implement an educational component to improve the math and reading skills of youth offenders and to assist youth offenders to enter a community college or four-year college. The Workforce Investment Boards, industry representatives, and local community colleges also develop a training program to help employed youth offenders upgrade their skills and move to skilled positions in high-growth industries. Faith-based and community organizations agree to provide mentors and case management for youth offenders. Any of the above agencies or organizations could be the lead agency for the project.

II. Award Information

1. Award Amount

ETA expects to award grants for 15 projects at an average grant amount of $1 million. Applicants may submit proposals within the range of $800,000 to $1.2 million.

2. Period of Performance

The initial period of grant performance will be for one year of operation. Depending on the availability of funds and satisfactory progress, additional years of funding may be available for these grants. In addition, ETA may elect to exercise its option to award no-cost extensions to these grants for an additional period based on the satisfactory progress of the program in placing participants in jobs, education, and training, and reducing the recidivism of participants.

III. Eligibility Information

1. Eligible Applicants

Applicants may be public, private for-profit, and private non-profit organizations, including faith-based and community organizations. The applicant will be the lead agency representing a partnership of the public workforce system, business and industry representatives from high-growth/high-demand industries, the education and training community, and the juvenile justice system.

Applicants must demonstrate the existence of a partnership that includes at least one entity from each of four categories: (1) The publicly-funded workforce investment system, which may include the State Workforce Board, State Workforce Agency, local Workforce Investment Board, or a consortium of neighboring local Workforce Investment Boards; (2) the education and training community, which may include the State agencies overseeing secondary and post-secondary schools, local school districts, local community and technical colleges, four year colleges and universities, or other training entities; (3) employers and industry representatives in high-growth/high-demand industries; and (4) the juvenile justice system, which may include the State juvenile justice agency or the local family or juvenile court system. Collaborations also are encouraged with other entities, including child welfare and foster care agencies, faith-based and community organizations, substance abuse treatment providers, and social service agencies.

2. Grantee Resources

There are no matching requirements for these grants. Applicants will be rated in part on their ability to demonstrate commitments of leveraged non-Federal resources.

3. Other Eligibility Requirements

Beneficiary Eligibility. Individuals aged 16 to 21 who have been involved in the juvenile justice system may be served by these grants. This includes youth currently being held in correctional facilities or detention centers, youth who have been released from correctional facilities or detention centers, and youth who have been sentenced in juvenile court to probation or alternative sentences.

Veterans Priority. This program is subject to the provisions of the “Jobs for Veterans Act,” Pub. L. 107-288, 38 U.S.C. 4215), which provides priority of service to veterans and spouses of certain veterans for the receipt of employment, training, and placement services in any job training program directly funded, in whole or in part, by DOL. To obtain priority of service, a veteran must meet the program's eligibility requirements. ETA Training and Employment Guidance Letter (TEGL) No. 5-03 (Sept. 16, 2003) at http://www.doleta.gov/Seniors/other_docs/TEN5_03_VETS.pdf provides general guidance on the scope of the veterans priority statute and its effect on current employment and training programs.

IV. Application and Submission Information

1. Address To Request Application Package

This SGA contains all of the information and forms needed to apply for grant funding.

2. Content and Form of Application Submission

Applicants must submit an original signed application and three hard copies to DOL. The proposal must consist of two separate and distinct parts. Applications that fail to adhere to the instructions in this section will be considered non-responsive and will not be considered.

Part 1 of the proposal is the Cost Proposal and must include the following two items:

• The Standard Form (SF) 424, “Application for Federal Assistance” (Appendix A) (also available at http://www.whitehouse.gov/omb/grants/sf424.pdf). The SF 424 must clearly identify the applicant and be signed by an individual with authority to enter into a grant agreement. Applicants are required to have a Dun and Bradstreet (DUNS) number which is a nine-digit identification number that uniquely identifies business entities. To obtain a DUNS number, access the Web site at http://www.dunandbradstreet.com or call 1-866-705-5711. Applicants must supply their DUNS number in item #5 of the new SF 424 issued by OMB (rev. 9-2003).

• The Budget Information Form SF 424A (Appendix B) (also available at http://www.whitehouse.gov/omb/grants/sf424a.pdf). In preparing the SF 424A, the applicant must provide a concise narrative explanation for each line item to support the request and should discuss precisely how the administrative costs support the project goals. The applicant must also provide a detailed back-up budget that includes the number of staff to be hired by job title.

Part 2 of the application is the Technical Proposal, which demonstrates the applicant's capabilities to plan and implement the grant project in accordance with the provisions of this SGA. The guidelines for the content of the Technical Proposal are provided in Section V(1)(A-D) of this SGA; emphasis should be placed on the areas listed in Section I(4) of this SGA. The Technical Proposal is limited to fifteen double-spaced, single-sided pages with twelve point text font and one-inch margins. In addition, the applicant must provide letters of support from the partnering agencies, a list of proposed staff positions to be funded by the grant, a time line outlining project activities, and a two-page Executive Summary. These additional materials do not count against the fifteen page limit for the Technical Proposal. The additional materials may not exceed fifteen pages in addition to the Technical Proposal.

3. Submissions Dates, Times, and Address

The closing date for receipt of applications under this announcement is May 23, 2005. Applications must be received at the address below not later than 5 p.m. (Eastern Daylight Time). Applications sent by e-mail, telegram, or facsimile (fax) will not be accepted. Applications that do not meet the conditions set forth in this notice will not be considered. No exceptions to the mailing and delivery requirements set forth in this notice will be granted.

Mailed applications must be addressed to the U.S. Department of Labor, Employment and Training Administration, Division of Federal Assistance, Attention: James Stockton, Reference SGA/DFA-PY 04-09, 200 Constitution Avenue, NW., Room S-4220, Washington, DC 20210. Applicants are advised that mail delivery in the Washington area may be delayed due to mail decontamination procedures. Hand delivered applications will be received at the above address. All overnight mail will be considered to be hand-delivered and must be received at the designated place by the specified closing date.

Applicants may apply online at http://www.grants.gov. For applicants submitting electronic applications via Grants.gov, it is strongly recommended that you immediately initiate and complete the “Get Started” steps to register with Grants.gov at http://www.grants.gov/GetStarted. Registration will probably take multiple days to complete which should be factored into plans for electronic application submission in order to avoid facing unexpected delays that could result in the rejection of your application. It is recommended that applicants experiencing problems with electronic transmission submit their application by overnight mail until the electronic issues are resolved.

Late Applications: Any application received after the exact date and time specified for receipt at the office designated in this notice will not be considered, unless it is received before awards are made and it (a) was sent by U.S. Postal Service registered or certified mail not later than the fifth calendar day before the date specified for receipt of applications (e.g., an application required to be received by the 20th of the month must be postmarked by the 15th of that month) or (b) was sent by U.S. Postal Service Express Mail or Online to addressee not later than 5 p.m. at the place of mailing or electronic submission one working day prior to the date specified for receipt of applications. It is highly recommended that online submissions be completed one working day prior to the date specified for receipt of applications to ensure that the applicant still has the option to submit by U.S. Postal Service Express Mail in the event of any electronic submission problems. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of nonresponsiveness.

4. Intergovernmental Review

This funding opportunity is not subject to Executive Order (EO) 12372, “Intergovernmental Review of Federal Programs.”

5. Funding Restrictions

All proposal costs must be necessary and reasonable in accordance with Federal guidelines. Determinations of allowable costs will be made in accordance with the applicable Federal cost principles, as identified in OMB Circulars A-122, A-87, A-21 or at 48 CFR part 31 (See 29 CFR 95.27, 97.22). Disallowed costs are those charges to a grant that the grantor agency or its representative determines not to be allowed in accordance with the applicable Federal Cost Principles or other conditions contained in the grant. Applicants will not be entitled to reimbursement of pre-award costs.

The government is prohibited from providing direct support to religious activity.¹ See 29 CFR part 2, subpart D. Provisions relating to the use of indirect support, such as through vouchers, are found at 29 CFR 2.33(c) and 20 CFR 667.266. These grants may not be used to directly support religious instruction, worship, prayer, proselytizing, or other inherently religious practices. Neutral, secular criteria that neither favor nor disfavor religion must be employed in the selection of grant and sub-grant recipients. In addition, under DOL regulations implementing the nondiscrimination provisions of WIA, a recipient may not use direct Federal assistance to train a participant in religious activities, and a recipient may not employ participants to construct, operate, or maintain any part of any facility that is used or to be used for religious instruction or as a place for religious worship, except as provided in 29 CFR 37.6(f). Under WIA, “no individual shall be excluded from participation in, denied the benefits of, subjected to discrimination under, or denied employment in the administration of or in connection with, any such program or activity because of race, color, religion, sex (except as otherwise permitted under Title IX of the Education Amendments of 1972), national origin, age, disability, or political affiliation or belief.”

¹ The term “direct” support is used to describe funds or other support that are provided “directly” by a governmental entity or an intermediate organization with the same duties as a governmental entity, as opposed to funds that an organization receives “indirectly” as the result of the genuine and independent private choice of a beneficiary within the meaning of the Establishment Clause of the U.S. Constitution.

6. Other Submission Requirements

Applications may be withdrawn by written notice or telegram, including mailgram, received at any time before an award is made. Applications may be withdrawn in person by the applicant or by an authorized representative thereof, if the representative's identity is made known and the representative signs a receipt for the application.

V. Application Review Information

1. Criteria for Review

This section identifies and describes the criteria that will be used to evaluate the proposals submitted in response to this solicitation. These criteria and point values are:

Criterion | Points
A. Need for the Project | 15
B. Project Design and Service Strategy | 40
C. Linkages to Key Partners and Leveraged Resources | 30
D. Program Management and Organization Capacity | 15
** Bonus: Leveraged State or Federal Cash Resources | 5
Total Possible Points | 105

A. Need for the Project (15 Points)

The points for need will be assigned based on a combination of the number of youth involved in delinquency cases in the area to be served by your proposed project and the justification that you make in your application for the need for the project. Ten points under this criterion will be assigned by the number of youth in delinquency cases based on a scale that uses data provided voluntarily by juvenile courts across the country to the National Juvenile Court Data Archive (NJCDA), a project maintained by the National Center for Juvenile Justice (NCJJ) with funds provided by OJJDP. These Juvenile Court Statistics include State and county-level caseload statistics describing the annual delinquency, status offense, and dependency cases handled by juvenile courts. These county-level statistics are available on the OJJDP Web site under Easy Access to State and County Juvenile Court Case Counts at http://ojjdp.ncjrs.org/ojstatbb/ezaco/asp/overview.asp. We will be using the data on petitioned delinquency cases.

If you are from Louisiana, Oregon, or Wisconsin, please provide the number of petitioned delinquency cases in the county or counties that will be serving for the latest year available as the national base does not include these statistics for these three States. If you are applying from any other State, you do not need to provide in your application the statistics for the area that you will be serving as we can access that information from the national data base as long as you indicate in the Needs Section of your application the county or counties that you will be serving or whether you will be serving a state-wide area. If you are from Connecticut, indicate the venue district that you will be serving.

The remaining five points under this criterion will be based on the justification that you provide in your application for the need for this project in the area that you will be serving. Discuss the extent of juvenile delinquency in the area that you will be serving, the extent of youth gang problems, and other information relevant to establishing the need for your project.

B. Project Design and Service Strategy (40 Points)

Applicants are requested to describe how they plan to effectively prepare and place youth offenders in high-growth/high-demand industries. Describe how credible labor market information was used to focus on selected industries. Show evidence that the industry(s) selected is high-growth or in demand in the area to be served by the grant. Describe how the training curricula and competency models proposed will upgrade the basic and occupational skills of participants.

Describe how the juvenile justice system will refer youth to the program. Discuss the role of youth correctional facilities in referring youth to the program. Describe how coordination will be maintained between juvenile probation officers and the education and employment components of the program. If some youth are assigned to this project as part of an alternative sentence, describe how coordination will be maintained between the juvenile court and the education and employment components of the program.

Identify what assessment tools and/or methods will be used to determine the skills and aptitudes of participants. Describe the specific strategies and methods that will be used for measuring skills acquisition during the training process. Describe the service process that will be used in the project including the sequence of services (i.e., assessments, training, etc.) in the overall process, how the specific services for participants are determined, and which partner will provide the services. In addition, identify the supportive services, if applicable, that will be provided to participants and describe how such services will facilitate participation. Identify what supportive services will be provided pre- and post-employment/placement, as well as during and post-training. Describe the rationale for the services that are necessary for participants to attain, retain or advance in the job. Indicate what services will be provided by project partners or other sources other than the grant.

DOL expects that each project site will serve 200 youth offenders each year and that outcomes will include placement in employment, post-secondary education, and advanced training, attainment of a degree or certificate (both of which are part of the new common measures for youth employment and training programs), and reduced recidivism. Discuss how your project will be able to attain these outcomes, taking into consideration that youth entering this program may have low basic skills levels and may require extensive remediation and skills training. Also provide numerical goals for each of these outcome measures. Please be realistic in setting these numerical goals. Your discussion of outcome goals should include the methods proposed to collect and validate outcome data in a timely and accurate manner.

Describe the job placement strategies that you will use in your program. Discuss the extent to which the high-growth/high-demand industry representatives will assist in the job placement. Discuss the role of the local workforce investment system and One-Stop Centers in your job placement efforts.

Scoring on this criterion will be based on how well the service plan/project design provides solutions to the workforce challenges of the youth offender population to be served while addressing the needs of high-growth/high-demand employers for a skilled workforce.

Important factors include:

• The existence of a work plan that is responsive to the applicant's statement of need and target population, and that includes specific goals, objectives, activities, implementation strategies, and a timeline;

• Local labor market information and other evidence that support the credibility of the high-growth/high-demand industry(s) identified;

• The demonstrated link between the proposed project and the workforce challenges identified for youth offender workers and employers;

• The existence of a sound strategy for coordinating with the local juvenile justice system and youth correctional facilities for referring youth into the program;

• A sound strategy for coordinating with juvenile probation officers in this project;

• Links with the child welfare agency, faith-based and community organizations, and other social service agencies;

• Participant characteristics including their literacy and basic and occupational skill needs;

• An effective set of job placement strategies;

• The industry and occupation, in which participants are to be placed, retained, or advanced relative to target skills and wage goals;

• Documented skill shortages for industry or occupations targeted;

• Evidence that the training curricula is developed, if applicable, to meet identified skills and competencies required by high-growth employers;

• The length of the project for participants;

• The ability of the applicant to achieve the stated outcomes within the time frame of the grant;

• The appropriateness of the outcomes with respect to the requested level of funding; and

• The extent to which the project will be of significant and practical use to the public workforce investment system.

C. Linkages to Key Partners and Leveraged Resources (30 Points)

Applicants must demonstrate the existence of a partnership that includes at least one entity from each of four categories: (1) The publicly-funded Workforce Investment System, which may include the State Workforce Board, State Workforce Agency, local Workforce Investment Board, or a consortium of neighboring local Workforce Investment Boards; (2) the education and training community, which may include the State agencies overseeing secondary and post-secondary schools, local school districts, local community and technical colleges, four year colleges and universities, or other training entities; (3) employers and industry representatives in high-growth/high-demand industries; and (4) the juvenile justice system, which may include the State juvenile justice agency or the local family or juvenile court system. Collaborations also are encouraged with other entities, including child welfare and foster care agencies, faith-based and community organizations, substance abuse treatment providers, and social service agencies. DOL encourages, and will be looking for, applications that go beyond the minimum level of partnerships and demonstrate broader, substantive, and sustainable partnerships. The applicant must identify the partners and explain the meaningful role each partner plays in the project as well as how resources will be leveraged among the partners.

Scoring on this criterion will be based on the comprehensiveness of the partnership, the degree to which each partner plays a committed role, and the amount and quality of non-Federal leveraged resources.

Important factors include:

• The number of partners involved, the nature of their in-kind or monetary contribution, their knowledge and experience concerning the proposed grant activities, and their ability to impact the success of the project;

• The overall completeness of the partnership, including its ability to manage all aspects and stages of the project and to coordinate individual activities with the partnership as a whole;

• Evidence that key partners have expressed a clear commitment to the project and understand their areas of responsibility. Examples include a letter of commitment or an MOU;

• Evidence of a plan for interaction between partners at each stage of the project, from planning to execution;

• Evidence that the partnership has the capacity to achieve the outcomes of the proposed project; and

• The amount and quality of the non-Federal leveraged resources, including an itemized description of each cash or in-kind contribution and a description of how each contribution will be used to further the goals of the project. By quality of the non-Federal leveraged resources, we mean whether the proposed leveraging represents a dedication of resources to this specific project as opposed to simply representing a use of resources that would have occurred even in the absence of this project.

Bonus: Leveraging of State and Federal Cash Resources. Applicants who plan to leverage 20 percent of the requested grant amount in State or Federal Cash Resources for the proposed project will receive 5 bonus points. By cash resources, we mean State or Federal resources that are dedicated specifically to this project, and that in effect increase the budgeted amount available for your project to spend. Applicants must describe in detail how such funds will be used, the source of funds, and how these funds will contribute to the goals of the project.

D. Program Management and Organization Capacity (15 Points)

Applicants must demonstrate that they have the capability of providing the services proposed. The applicant must also include a description of organizational capacity and the organization's track record in projects similar to that described in the application and/or related activities of the primary actors in the partnership. Applicants must identify a project manager, discuss the proposed staffing pattern and the qualifications and experience of key staff members, provide detailed descriptions of the roles of the participating partners, and give evidence of the utilization of data systems to track outcomes. Scoring on this factor will be based on evidence of the following:

• The time commitment of the proposed staff is sufficient to assure proper direction, management, and timely completion of the project;

• The roles and contribution of staff, consultants, and collaborative organizations are clearly defined and linked to specific objects and tasks;

• The background, experience, and other qualifications of the staff are sufficient to carry out their designated roles; and

• The applicant organization has significant capacity to accomplish the goals and outcomes of the project, including appropriate systems to track outcome data.

2. Review and Selection Process

A technical review panel will make careful evaluation of applications against the criteria set forth in V.1. These criteria are based on the policy goals, priorities, and emphases set forth in this SGA. The ranked scores will serve as a primary basis for selection of applications for funding, in conjunction with other factors such as urban, rural, and geographic balance, the availability of funds, and which applications are most advantageous to DOL. The panel results are advisory in nature and not binding on the Grant Officer. The Grant Officer may consider any information that comes to his attention. DOL may elect to award the grant(s) with or without discussions with the applicants. Should a grant be awarded without discussions, the award will be based on the applicant's signature on the SF 424, which constitutes a binding offer.

VI. Award Administration Information

1. Award Notices

DOL will notify selected and non-selected applicants by mail. All award notifications will be posted on the ETA Homepage at http://www.doleta.gov.

2. Administrative and National Policy Requirements

All grantees, including faith-based organizations, will be subject to all applicable Federal laws, including provisions of appropriation laws, regulations, and the applicable OMB Circulars. The grant(s) awarded under this SGA must comply with all provisions of this SGA and will be subject to the following administrative standards and provisions, as applicable to the particular grantee:

a. 20 CFR part 667.220 Administrative Costs.

b. OMB Circulars, A-122 Cost Principles, A-21 Cost Principles, A-87 Cost Principles, 48 CFR part 31 Cost Principles.

c. 29 CFR part 2, subpart D—Equal Treatment in Department of Labor Programs for Religious Organizations, Protection of Religious Liberty of Department of Labor Social Service Providers and Beneficiaries;

d. 29 CFR part 30—Equal Employment Opportunity in Apprenticeship and Training;

e. 29 CFR part 31—Nondiscrimination in Federally Assisted Programs of the Department of Labor—Effectuation of Title VI of the Civil Rights Act of 1964;

f. 29 CFR part 32—Nondiscrimination on the Basis of Handicap in Programs and Activities Receiving or Benefiting from Federal Financial Assistance;

g. 29 CFR part 33—Enforcement of Nondiscrimination on the Basis of Handicap in Programs or Activities Conducted by the Department of Labor;

h. 29 CFR part 35—Nondiscrimination on the Basis of Age in Programs or Activities Receiving Federal Financial Assistance from the Department of Labor;

i. 29 CFR part 36—Nondiscrimination on the Basis of Sex in Education Programs or Activities Receiving Federal Financial Assistance;

j. 29 CFR part 37—Implementation of the Nondiscrimination and Equal Opportunity Provisions of the Workforce Investment Act of 1998 (WIA).

k. 29 CFR part 93—Lobbying;

l. 29 CFR part 95—Grants and Agreements with Non-Profit Organizations, Commercial Organizations, International Organizations, Foreign Governments, and Others;

m. 29 CFR part 96—Audit Requirements for Grants, Contracts and Other Agreements;

n. 29 CFR part 97—Uniform Administrative Requirements for Grants and Cooperative Agreements to State and Local Governments;

o. 29 CFR part 98—Government-wide Debarment and Suspension (Non-Procurement) and Governmentwide Requirements for Drug-Free Workplace; and

p. 29 CFR part 99—Audits of States, Local Governments, and Non-Profit Organizations.

Note: Except as specifically provided in this SGA, DOL/ETA's acceptance of a proposal and an award of Federal funds to sponsor any programs(s) does not provide a waiver of any grant requirements and/or procedures. For example, the OMB circulars require that an entity's procurement procedures must require that all procurement transactions must be conducted, as practical, to provide open and free competition. If a proposal identifies a specific entity to provide the services, the DOL/ETA's award does not provide the justification or basis to sole-source the procurement, i.e., avoid competition.

3. Reporting

The grantee is required to provide the reports and documents listed below:

Quarterly Financial Reports. A Quarterly Financial Status Report, SF 269, is required until such time as all funds have been expended or the grant period has expired. Quarterly reports are due thirty days after the end of each calendar year quarter. Grantees must use ETA's On-Line Electronic Reporting System.

Quarterly Progress Reports. The grantee must submit a quarterly progress report to the designated Federal Project Officer within thirty days after the end of each quarter. Two copies are to be submitted providing a detailed account of activities undertaken during that quarter. DOL may require additional data elements to be collected and reported on either a regular basis or special request basis. Grantees must agree to meet DOL reporting requirements. The quarterly progress report should be in narrative form and should include:

1. In-depth information on accomplishments, including project success stories, upcoming grant activities, promising approaches and processes, and progress in achieving performance outcomes;

2. Challenges, barriers, or concerns regarding project progress;

3. Lessons learned in the areas of project administration and management, project implementation, partnership relationships and other related areas.

MIS Data. Grantees will be required to submit updated MIS data on enrollment, services provided, placements, outcomes, and follow-up status. DOL will coordinate with sites after grant award to implement an MIS system for this project.

VII. Agency Contacts

Any questions regarding this SGA should be directed to B. Jai Johnson, Grants Management Specialist, Division of Federal Assistance, at (202)-693-3296; fax: (202) 693-2879. This is not a toll-free number. You must specifically address your fax to the attention of B. Jai Johnson and should include SGA/DFA PY 04-09, a contact name, fax and phone number.

FOR FURTHER INFORMATION CONTACT: Please contact James Stockton, Grants Management Specialist, Division of Federal Assistance, on (202) 693-3335. This is not a toll-free number. This announcement is also being made available on the ETA Web site at http://www.doleta.gov/sga/sga.cfm and http://www.grants.gov.

VIII. Other Information

Resources for the Applicant

DOL maintains a number of web-based resources that may be of assistance to applicants. The webpage for the ETA's Business Relations Group (http://www.doleta.gov/BRG) is a valuable source of background on the President's High-Growth Job Training Initiative. America's Service Locator (http://www.servicelocator.org) provides a directory of our nation's One-Stop Career Centers. Applicants are encouraged to review “Understanding the Department of Labor Solicitation for Grant Applications and How to Write an Effective Proposal” (http://www/dol.gov/cfbci/sgabrochure.htlm). “Questions and Answers” regarding this SGA will be posted and updated on the Web (www.doleta.gov/usworkforce).

Signed at Washington, DC, this 20th day of April, 2005.
James W. Stockton,
Grants Officer.

Attachments:

Appendix A: SF 424—Application Form

Appendix B: OMB Survey N. 1890-0014: Survey on Ensuring Equal Opportunity for Applicants

Appendix C: SF 424A—Budget Information Form

BILLING CODE 4510-30-P

[FR Doc. 05-8184 Filed 4-21-05; 8:45 am]

BILLING CODE 4510-30-C